DEPARTMENT OF HEALTH AND HUMAN SERVICES

Administration for Community Living

Announcing the Intent To Award a Single-Source Supplement for the National Center for Benefits Outreach and Enrollment (NCBOE)

ACTION: Notice.

SUMMARY: The Administration for Community Living (ACL) announces the intent to award a single-source supplemental to the current cooperative agreement held by the National Council on Aging (NCOA) for the National Center for Benefits Outreach and Enrollment (NCBOE). The purpose of the NCBOE is to provide technical assistance to states, Area Agencies on Aging, Aging and Disability Resource Centers and service providers who conduct outreach and low-income benefits enrollment assistance, particularly to older individuals with greatest economic need for federal and state programs. The administrative supplement for FY 2023 will be for $1,932,521, bringing the total award for FY 2023 to $13,432,521.

FOR FURTHER INFORMATION CONTACT: For further information or comments regarding this program supplement, contact Margaret Flowers, U.S. Department of Health and Human Services, Administration for Community Living, Center for Innovation and Partnership, Office of Healthcare Information and Counseling; telephone (202) 795-7315; email Margaret.flowers@acl.hhs.gov.

SUPPLEMENTARY INFORMATION: This supplemental funding will expand the NCBOE's outreach and education efforts targeting older adults with the greatest economic need, especially people from underserved communities. The NCBOE will build on current efforts to reach and assist beneficiaries, including expanding the work of the Benefits Enrollment Centers, making enhancements to the benefits eligibility and screening tool, and expanding the capacity of the benefits call center.

With this supplemental funding, the NCBOE will develop specialized training and tools related to retirement security for older adults with low and moderate incomes. This work will build on current efforts to reach and assist beneficiaries with benefits by expanding on the retirement security project begun in 2023. This may include but is not limited to activities such as developing materials, providing technical assistance, and conducting a pilot with select community-based organizations. As part of this work, the NCBOE should reflect on the equity assessment conducted in 2021 to identify specific strategies to reach and enroll beneficiaries in rural communities, who are under 65, with limited English proficiency, from tribal communities, from communities of color, and/or from other historically underserved and marginalized communities. The NCBOE should collaborate with ACL and the administration to coordinate planned and emerging efforts to help older adults with low and moderate incomes with retirement planning. The NCBOE will continue, expand, and complete the work they are currently undertaking with the NCBOE award without disrupting services.

Program Name: The National Center for Benefits Outreach and Enrollment (NCBOE).

Recipient: National Council on Aging (NCOA).

Period of Performance: The award will be issued for the current project period of September 1, 2023 through August 31, 2024.

Total Award Amount: $13,432,521 in FY 2023.

Award Type: Cooperative Agreement Supplement.

Statutory Authority: The statutory authority is contained in the 2006 Reauthorization of the Older Americans Act and the Medicare Improvements for Patients and Providers Act of 2008, as amended by the Patient Protection and Affordable Care Act of 2010, and reauthorized by the American Taxpayer Relief Act of 2012, Protecting Access to Medicare Act of 2014, Bipartisan Budget Act of 2018, and Coronavirus Aid, Relief, and Economic Security (CARES) Act of 2020, and Consolidated Appropriations Act of 2021.

Basis for Award: The National Council on Aging (NCOA) is currently funded to carry out the NCBOE Project for the period of September 1, 2020 through August 31, 2025. Much work has already been completed and further tasks are currently being accomplished. It would be unnecessarily time-consuming and disruptive to the NCBOE project and the beneficiaries being served for ACL to establish a new grantee at this time when critical services are presently being provided in an efficient manner.

NCOA is uniquely placed to complete the work under the NCBOE grant. Since 2001, NCOA has been the national leader in improving benefits access to vulnerable older adults. They have an unparalleled history of working with community-based organizations to develop and replicate outreach and enrollment solutions while maintaining and enhancing technology to make it easier and more efficient to find benefits. NCOA through NCBOE accomplishes its mission by developing and sharing tools, resources, best practices, and strategies for benefits outreach and enrollment via its online clearinghouse, electronic and print publications, webinars, and training and technical assistance.

In addition, NCOA has BenefitsCheckUp which is, by far, the nation's most comprehensive and widely-used web-based service that screens older and disabled adults with limited incomes and resources and informs them about public and private benefits for which they are very likely to be eligible. Since the BenefitsCheckUp was launched in 2001, nearly 9.9 million people have discovered over $42 billion in benefits. In addition to the focus on Low-Income Subsidy and Medicare Savings Programs, BenefitsCheckUp also includes more than 2,500 benefits programs from all 50 states and DC, including over 50,000 local offices for people to apply for benefits; and more than 1,500 application forms in every language in which they are available. NCOA is successfully meeting all programmatic goals under the current NCBOE grant.

Dated: July 8, 2023.
Alison Barkoff,
Acting Administrator and Assistant Secretary for Aging.

[FR Doc. 2023-14831 Filed 7-12-23; 8:45 am]

BILLING CODE 4154-01-P